DEPARTMENT OF HEALTH AND HUMAN SERVICES

Health Resources and Services Administration

Agency Information Collection Activities: Proposed Collection: Comment Request

In compliance with the requirement for opportunity for public comment on proposed data collection projects (section 3506(c)(2)(A) of title 44, United States Code, as amended by the Paperwork Reduction Act of 1995, Public Law 104-13), the Health Resources and Services Administration (HRSA) publishes periodic summaries of proposed projects being developed for submission to OMB under the Paperwork Reduction Act of 1995. To request more information on the proposed project or to obtain a copy of the data collection plans and draft instruments, call the HRSA Reports Clearance Officer on (301) 443-1129.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: HRSA AIDS Drug Assistance Program Quarterly Report—New

HRSA's AIDS Drug Assistance Program (ADAP) is funded through Title II of the Ryan White Comprehensive AIDS Resources Emergency (CARE) Act, which provides grants to States and Territories. The ADAP provides medications for the treatment of HIV disease. Program funds may also be used to purchase health insurance for eligible clients or for services that enhance access, adherence, and monitoring of drug treatments.

Each of the 50 States, the District of Columbia, and several Territories receive ADAP grants. As part of the funding requirements, ADAP grantees submit quarterly reports that include information on patients served, pharmaceuticals prescribed, pricing, and other sources of support to provide AIDS medication treatment, eligibility requirements, cost data, and coordination with Medicaid. Each quarterly report requests updates from programs on number of patients served, type of pharmaceuticals prescribed, and prices paid to provide medication. The first quarterly report of each ADAP fiscal year (due in July of each year) also requests information that only changes annually (e.g., State funding, drug formulary, eligibility criteria for enrollment, and cost-saving strategies including coordinating with Medicaid).

The quarterly report represents the best method for HRSA to determine how ADAP grants are being expended and to provide answers to requests from Congress and other organizations. This new quarterly report will replace two current monthly progress reports plus information currently submitted annually. The new quarterly report should reduce burden, avoid duplication of information, and provide HRSA information in a form that easily lends itself to responding to inquiries.

The estimated annual burden per ADAP grantee is as follows:

Form | Number of respondents | Responses per respondent | Total responses | Hours per response | Total burden hours
First quarterly report | 57 | 1 | 57 | 3.0 | 171.0
Second, third, & fourth quarterly reports | 57 | 3 | 171 | 1.5 | 256.5
Total | 57 |  | 228 |  | 427.5

Send comments to Susan G. Queen, Ph.D., HRSA Reports Clearance Officer, Room 14-45, Parklawn Building, 5600 Fishers Lane, Rockville, MD 20857. Written comments should be received within 60 days of this notice.

Dated: April 23, 2004.
Tina M. Cheatham,
Director, Division of Policy Review and Coordination.

[FR Doc. 04-9804 Filed 4-29-04; 8:45 am]

BILLING CODE 4165-15-P